DEPARTMENT OF DEFENSE

Department of the Army, Corps of Engineers

Notice of Intent To Prepare a Draft Environment Impact Statement for the Proposed Lone Star Ore Body Development Project in Graham County, Arizona

AGENCY: U.S. Army Corps of Engineers, DoD.

ACTION: Notice of Intent.

SUMMARY: The U.S. Army Corps of Engineers, Los Angeles District (Corps) is examining the environmental consequences associated with Freeport-McMoRan Safford Inc.'s (FMSI) application for a Department of the Army permit under section 404 of the Clean Water Act for the proposed development of the mineral resources associated with the Lone Star ore body for the purpose of producing copper (the Lone Star Project). The proposed development would include the construction of mining facilities, including an open pit mine and attendant development rock stockpiles and heap leach facilities, which will allow continued mining at the Safford Mine Facility using conventional open-pit mining, heap leaching techniques, and solution extraction/electrowinning (SX/EW) processing, and utilizing as much of the existing Safford Mine Facility infrastructure and processing facilities as practicable. The construction of the proposed facilities would discharge fill materials into approximately 90.27 acres of waters of the United States (U.S.). The primary federal environmental concerns are the proposed discharges of fill material into waters of the U.S. and the potential for significant adverse environmental effects resulting from such activities. Therefore, to address these concerns in accordance with the National Environmental Policy Act (NEPA), the Corps is requiring preparation of an Environmental Impact Statement (EIS) prior to consideration of any permit action. The action must comply with the section 404(b)(1) Guidelines (40 CFR part 230) and not be contrary to the public interest to be granted a Corps permit. The Corps may ultimately make a determination to permit or deny the above project, or permit or deny modified versions of the above project.

FOR FURTHER INFORMATION CONTACT: Questions about the proposed action or the scoping of the Draft EIS can be answered by Michael Langley, Corps Senior Project Manager, at (602) 230-6953. Comments regarding scoping of the Draft EIS shall be addressed to: U.S. Army Corps of Engineers, Los Angeles District, Arizona Regulatory Branch, ATTN: SPL-2014-00065-MWL, 3636 North Central Avenue, Suite 900, Phoenix, Arizona 85012-1939, or michael.w.langley@usace.army.mil. Comment letters sent via electronic mail shall include the commenter's physical address and the project title “Lone Star Ore Body Development Project” shall be included in the subject line.

SUPPLEMENTARY INFORMATION:

1. Project Site and Background Information: The Lone Star copper ore body proposed for development is located within the boundary of the existing FMSI Safford Mine Facility, north of the City of Safford, Graham County, Arizona. FMSI owns and manages approximately 36,050 acres of privately held lands within and surrounding the Safford Mine Facility, which has been in operation for almost 7 years. The Safford Mine Facility is located within the Safford Mining District, and lands within the district have been used for mining activities by various entities for more than a century. FMSI (formerly Phelps Dodge Safford Inc.) first began development of an underground copper mining operation in the district in the 1960s, and later purchased other copper mining operations in the vicinity.

Between 1994 and 1996, FMSI initiated discussions to obtain authorization from the Bureau of Land Management (BLM) and the Corps to develop open pit copper mining operations in the district, and in May 1996, formally initiated NEPA review of these proposals through submission of a Mine Plan of Operations (MPO) to the BLM. NEPA review of the project, termed the Dos Pobres/San Juan Project (DP/SJ Project) after the ore bodies proposed for development, involved the publication of a Draft Environmental Impact Statement (DEIS) in September 1998, a Final Environmental Impact Statement (FEIS) in December 2003, and a BLM Record of Decision (ROD; No. 1793 [AZ-040] AZA-31133) in June 2004. As a component of the NEPA review, the Corps completed a section 404(b)(1) Alternatives Analysis in October 1997 and issued a section 404 Individual Permit (No. 964-0202-MB) for impacts to waters of the U.S. from development of the DP/SJ Project on September 27, 2004.

The Safford Mine Facility is currently an open-pit copper mining operation consisting of two pits: The Dos Pobres Pit and the San Juan Pit. The handling, processing, and support infrastructure for mineral resources recovered from the two pits is integrated into a single system consisting of a three-stage crushing system, two drum agglomerators, a single heap leach pad, SX/EW processing facility, and support facilities. Each of the pits has an associated development rock stockpile: For Dos Pobres immediately west of the pit, and for San Juan immediately south of the pit. A clay borrow pit is located in the southeastern portion of the Safford Mine Facility.

2. Proposed Action: FMSI has proposed the development of the mineral resources associated with the Lone Star ore body, located on FMSI's privately owned lands and proximate to the existing Safford Mine Facility. Development of the Lone Star copper ore body (the Lone Star Project) was considered as a Reasonably Foreseeable Future Action (RFFA) and was included in the NEPA review of cumulative impacts for the 2003 FEIS. The applicant has designed the proposed Lone Star Project to make use of as much of the existing Safford Mine Facility infrastructure as is practicable. Although the location of the open pit for the Lone Star Project is tied to the physical location of the mineral resource, the locations of the remaining project elements have been optimized to continue using existing infrastructure wherever possible. New elements anticipated as necessary for the development of the Lone Star Project include the open pit, a heap leach stockpile and associated solution management systems, development rock stockpiles, the ore haulage/conveyance route between the pit and crusher, additional power distribution infrastructure, an expanded clay borrow source, and additional stormwater management facilities.

The Lone Star Project proposes discharges to waters of the U.S. for the development and operation of the heap leach stockpile, the development rock stockpiles, the haul road, and for the expansion of the clay borrow pit. Continued use of the existing facilities including the existing crushing facilities, SX/EW facilities, the majority of the existing support infrastructure for the current leach pad, and the mine access road are not anticipated to require the discharge of fill to waters of the U.S. Construction and operation of the remaining Lone Star Project elements including the open pit and power distribution infrastructure are not anticipated to require the discharge of additional fill to waters of the U.S.

3. Issues: There are several potential environmental issues that will be addressed in the Draft EIS. Additional issues may be identified during the scoping process. Issues initially identified for evaluation in the Draft EIS include:

a. Visual/aesthetics impacts from landform alterations,

b. air quality impacts from construction and operation of the facility,

c. cultural resources (prehistoric and historic resources),

d. surface water hydrology and quality,

e. groundwater hydrology and quality,

f. potential land use incompatibility,

g. noise impacts from construction and operation,

h. socioeconomic effects,

i. soils and geology resources,

j. transportation network impacts,

k. environmental justice

l. biological impacts

m. impacts to waters of the U.S., and

n. cumulative impacts.

4. Alternatives: Alternatives to the proposed action are being developed for evaluation in the EIS. The Draft EIS will include a co-equal level of analysis of the No-Action and project alternatives considered. Alternatives will be further formulated and developed during the scoping process.

5. Scoping: The Corps will conduct a public scoping meeting in an open house format for the proposed Lone Star Ore Body Development Project Draft EIS to receive public comment and to assess public concerns regarding the appropriate scope and preparation of the Draft EIS. Participation in the public meeting by federal, state, local, and tribal agencies and other interested organizations is encouraged. The meeting will be held on February 4, 2015, 6:00 p.m. to 9:00 p.m. (Arizona Time Zone) at the Manor House Convention Center, 415 E. U.S. Highway 70, Safford, Arizona 85546. Representatives from the Corps and Freeport-McMoRan Safford Inc. will provide a presentation for attendees at 7:00 p.m. Comments on the proposed action, alternatives, or any additional concerns should be submitted in writing. Written and electronic comment letters will be accepted through February 20, 2015.

The Corps also anticipates formally consulting with the U.S. Fish and Wildlife Service under section 7 of the Endangered Species Act and with the State Historic Preservation Officer and appropriate Tribal Historic Preservation Officers under section 106 of the National Historic Preservation Act.

6. Availability of the Draft EIS: The Draft EIS is expected to be published and circulated in the fourth quarter of 2015, and a public meeting will be held after its publication.

Dated: December 12, 2014.
David J. Castanon,
Division Chief, Los Angeles District, U.S. Army Corps of Engineers.

[FR Doc. 2014-30864 Filed 1-2-15; 8:45 am]

BILLING CODE 3720-58-P